ENVIRONMENTAL PROTECTION AGENCY

40 CFR Part 52

[R05-OAR-2004-MI-0002; FRL-7873-4]

Approval and Promulgation of Air Quality Implementation Plans; Michigan; Withdrawal of Direct Final Rule

AGENCY: Environmental Protection Agency (EPA).

ACTION: Withdrawal of direct final rule.

SUMMARY: Due to the receipt of adverse comments, the EPA is withdrawing the December 23, 2004 (69 FR 76848), direct final rule approving limits that would limit emissions of Oxides of Nitrogen (NOX) from large stationary sources (i.e. power plants, industrial boilers and cement kilns). The State of Michigan submitted this revision as a modification to the State Implementation Plan on April 3, 2003. After minor deficiencies in the April 3, 2003 submittal were identified, a subsequent submittal was made on May 27, 2004 to address these deficiencies. In the December 23, 2004 direct final approval, EPA found the changes made to the State's rules in the May 27, 2004 submittal approvable. In that direct final rule, EPA stated that if adverse comments were submitted by January 24, 2005, the rule would be withdrawn and not take effect. Comments were received during the public comment period. EPA believes these comments are adverse and, therefore, EPA is withdrawing the direct final rule. EPA will address the comments in a subsequent final action based upon the proposed action also published on December 23, 2004 (69 FR 76886). EPA will not institute a second comment period on this action.

DATES: The direct final rule published at 69 FR 76848 on December 23, 2004 is withdrawn as of February 15, 2005.

FOR FURTHER INFORMATION CONTACT: Douglas Aburano, Environmental Engineer, Criteria Pollutant Section, Air Programs Branch (AR-18J), U.S. Environmental Protection Agency, Region 5, 77 West Jackson Boulevard, Chicago, Illinois 60604, Telephone: (312) 353-6960. E-Mail Address: aburano.douglas@epa.gov.

List of Subjects in 40 CFR Part 52

Environmental protection, Air pollution control, Incorporation by reference, Nitrogen dioxide, Reporting and recordkeeping requirements.

Authority: 42 U.S.C. 7401 et seq.

Dated: February 4, 2005.
Bharat Mathur,
Acting Regional Administrator, Region 5.

PART 52—[AMENDED]

Accordingly, the amendment to 40 CFR 52.1170 published in the Federal Register on December 23, 2004 (69 FR 76848) on pages 76848-76854 are withdrawn as of February 15, 2005.

[FR Doc. 05-2895 Filed 2-14-05; 8:45 am]

BILLING CODE 6560-50-P